DEPARTMENT OF HEALTH AND HUMAN SERVICES

Food and Drug Administration

Industry Exchange Workshop on Food and Drug Administration Clinical Trial Requirements; Public Workshop; Amendment of Notice

AGENCY: Food and Drug Administration, HHS.

ACTION: Notice.

SUMMARY: The Food and Drug Administration (FDA) is announcing an amendment to the notice of public workshop on FDA clinical trial statutory and regulatory requirements. This workshop was announced in the Federal Register of September 21, 2005 (70 FR 55405). The amendment is made to reflect a change in the Location portion of the document. There are no other changes.

FOR FURTHER INFORMATION CONTACT: David Arvelo, Food and Drug Administration, 4040 North Central Expressway, suite 900, Dallas TX 75204, 214-253-4952, FAX: 214-253-4970, e-mail: oraswrsbr@ora.fda.gov.

SUPPLEMENTARY INFORMATION: In the Federal Register of September 21, 2005 (70 FR 55405), FDA announced that a public workshop entitled “Industry Exchange Workshop on Food and Drug Administration Clinical Trial Requirements” would be held on Wednesday, February 8, 2006. On page 55405, in the first column, the Location portion of the document is amended to read as follows:

Location: The public workshop will be held at the Renaissance Houston Hotel Greenway Plaza, 6 Greenway Plaza East, Houston, TX 77046, 713-629-1200, FAX: 713-629-4702.

Dated: November 30, 2005.
Jeffrey Shuren,
Assistant Commissioner for Policy.

[FR Doc. 05-23675 Filed 12-6-05; 8:45 am]

BILLING CODE 4160-01-S